DEPARTMENT OF AGRICULTURE

Rural Business-Cooperative Service

[Docket No. RBS-21-BUSINESS-0024]

Inviting Applications for the Rural Energy for America Program; Amendment

AGENCY: Rural Business-Cooperative Service, USDA.

ACTION: Notice; amendment.

SUMMARY: The Rural-Business Cooperative Service (the Agency) published a notice of solicitation of applications (NOSA) in the Federal Register on July 26, 2021, entitled “Inviting Applications for the Rural Energy for America Program,” to allow potential applicants time to submit applications for financial assistance under the Rural Energy for America Program (REAP) for fiscal year (FY) 2022 and allow the Agency time to process applications within the current FY. This notice amends scoring provisions found in Section V.A. to notify stakeholders of how the Agency intends to utilize State Director and Administrator priority points for FY 2022.

FOR FURTHER INFORMATION CONTACT: For general information contact Deb Yocum, Program Management Division, Rural Business-Cooperative Service, United States Department of Agriculture, 2920 East Court Street, Suite 3, Beatrice, NE 68310, 402-499-1198 or email CPgrants@usda.gov.

For project specific information or to file an application contact the applicable USDA Rural Development Energy Coordinator in your respective state, as identified via the following link: https://www.rd.usda.gov/files/RBS_StateEnergyCoordinators.pdf.

SUPPLEMENTARY INFORMATION:

Amendment

In FR Doc. 2021-15785 of July 26, 2021 (86 FR 40000), the following amendment to provide additional guidance on priority points is being made:

On page 40003, in column 1, under Section V. “Application Review Information,” subsection A. “Scoring,” at the end, add the following paragraphs to read as follows:

State Director and Administrator priority points can be awarded to applications which help further a Presidential initiative, or a Secretary of Agriculture priority as found in 7 CFR 4280.121 (h)(4) for REAP Renewable Energy Systems (RES) and Energy Efficiency Improvement (EEI) grants and 7 CFR 5001.319 (g)(4) for REAP RES and EEI and Energy Efficient Equipment and Systems guaranteed loans. For FY 2022, 10 State Director and Administrator priority points will be automatically awarded for applications, which based on location, meet any one of the key priorities as follows: (1) Assisting rural communities to recover economically from the impacts of the COVID-19 pandemic, particularly disadvantaged communities; (2) Ensuring all rural residents have equitable access to RD programs and benefits from RD funded projects; and (3) Supporting economic investments in distressed communities. Data sources for the key priorities are found at: https://www.rd.usda.gov/priority-points and at https://ruraldevelopment.maps.arcgis.com/apps/webappviewer/index.html?id=06a26a91d074426d944d22715a90311e for distressed communities.

The State Director or Administrator at their discretion may award up to 5 priority points maximum for projects which meet any of the following criteria if a project does not qualify for the 10 priority points under the Administration's priorities or as a distressed community as described above: (1) The application is for an under-represented technology; (2) selecting the application helps achieve geographic diversity, which may include points based upon the size of the funding request; (3) the applicant is a member of an unserved or under-served population described as follows: (i) Owned by a veteran, including but not limited to individuals as sole proprietors, members, partners, stockholders, etc., of not less than 20 percent. In order to receive points, applicants must provide a statement in their application to indicate that owners of the project have veteran status; or (ii) owned by a member of a socially disadvantaged group, which are groups whose members have been subjected to racial, ethnic, or gender prejudice because of their identity as members of a group without regard to their individual qualities. In order to receive points, the application must include a statement to indicate that the owners of the project are members of a socially disadvantaged group; (4) the proposed project is located in a Federally declared major disaster area. Declarations must be within the last 2 calendar years; (5) the proposed project is located in an area where 20 percent or more of its population is living in poverty over the last 30 years, as defined by the United States Census Bureau, underserved community(ies) or has experienced long-term population decline, or loss of employment. Except for veteran and socially disadvantaged group status, all other priority points are based upon project location specific criteria which will be documented automatically by the Agency. State Director or Administrator priority points for a REAP application cannot exceed 10 points total.

Karama Neal,
Administrator, Rural Business-Cooperative Service.

[FR Doc. 2021-25326 Filed 11-19-21; 8:45 am]

BILLING CODE 3410-XY-P